DEPARTMENT OF STATE

[Public Notice 10565]

Meetings of the United States-Panama Environmental Affairs Council and Environmental Cooperation Commission

ACTION: Notice of meetings of the United States-Panama Environmental Affairs Council and Environmental Cooperation Commission and request for comments.

SUMMARY: The Department of State and the Office of the United States Trade Representative (USTR) are providing notice that the United States and Panama intend to hold the second meetings of the Environmental Affairs Council (the “Council”) and the Environmental Cooperation Commission (the “Commission”) on October 3, 2018. The public sessions for the Council and Commission will be held on October 3, 2018, in Panama City, Panama.

The purpose of the meetings is to review implementation of Chapter 17 (Environment) of the United States-Panama Trade Promotion Agreement (TPA) and the United States-Panama Environmental Cooperation Agreement (ECA).

The Department of State and USTR invite interested organizations and members of the public to attend the public sessions and to submit written comments or suggestions regarding topics to be discussed at the meetings.

If you would like to attend the public session, please notify Neal Morris and Laura Buffo at the email addresses listed below under the heading ADDRESSES. Please include your full name and any organization or group you represent.

In preparing comments, submitters are encouraged to refer to:

• Chapter 17 of the TPA, https://ustr.gov/sites/default/files/uploads/agreements/fta/panama/asset_upload_file314_10400.pdf; and

• the ECA http://www.state.gov/documents/organization/189455.pdf.

These and other useful documents are available at https://ustr.gov/trade-agreements/free-trade-agreements/panama-tpa and at http://www.state.gov/e/oes/eqt/trade/panama/index.htm.

ADDRESSES: Any written comments and suggestions should be submitted to both:

(1) Neal Morris, Office of Environmental Quality and Transboundary Issues, U.S. Department of State, by electronic mail at MorrisND@state.gov with the subject line “U.S.-Panama EAC/ECC Meetings”; and

(2) Laura Buffo, Office of Environment and Natural Resources, Office of the United States Trade Representative, by electronic mail at Laura_Buffo@ustr.eop.gov with the subject line “U.S.-Panama EAC/ECC Meetings.”

DATES: The public sessions of the Council and Commission meetings will be held on October 3, 2018. Please contact Neal Morris and Laura Buffo for the time and location of the meetings. We request comments and suggestions in writing no later than October 1, 2018, to facilitate consideration.

Persons with access to the internet may comment on this notice by going to www.Regulations.gov. You can search for the document by entering “Docket Number: DOS-2018-0046” in the Search field. Then click the “Comment Now” button and complete the comment form.

Brian Doherty,
Director, Office of Environmental Quality and Transboundary Issues, Department of State.

[FR Doc. 2018-20803 Filed 9-24-18; 8:45 am]

BILLING CODE 4710-09-P